DEPARTMENT OF COMMERCE

National Oceanic and Atmospheric Administration

[I.D. 032607G]

Notice of Public Hearings for the Draft Programmatic Environmental Impact Statement for the Marine Mammal Health and Stranding Response Program

AGENCY: National Marine Fisheries Service (NMFS), National Oceanic and Atmospheric Administration (NOAA), Commerce.

ACTION: Notice of public hearings.

SUMMARY: NMFS will hold five public hearings in April 2007 to receive public comments on the Draft Programmatic Environmental Impact Statement (DPEIS) for the Marine Mammal Health and Stranding Response Program (MMHSRP).

DATES: The public comment period for the DPEIS is from March 16, 2007, to April 30, 2007. See SUPPLEMENTARY INFORMATION under the heading Hearing Dates, Times, and Locations for the dates and locations of the public hearings.

ADDRESSES: The public has the opportunity to submit comments on the document using the following methods:

• E-mail: mmhsrpeis.comments@noaa.gov.

• Mail: David Cottingham, Chief, Marine Mammal and Sea Turtle Conservation Division, Attn: MMSHRP DPEIS, Office of Protected Resources, NMFS, 1315 East-West Highway, Silver Spring, MD 20910.

• Facsimile (fax) to: (301) 427-2584, Attn: MMHSRP DPEIS.

• Public Hearings: Submit oral or written comments at public hearings for the DPEIS.

FOR FURTHER INFORMATION CONTACT: Sarah Howlett or Sarah Wilkin, Office of Protected Resources, NMFS, 1315 East-West Highway, Silver Spring, MD 20910; telephone: (301) 713-2322.

SUPPLEMENTARY INFORMATION: On March 16, 2007, the U.S. Environmental Protection Agency (EPA) published a Notice of Availability in the Federal Register announcing the availability of the DPEIS for the MMHSRP for public comment and review.

NMFS has scheduled five public hearings for the DPEIS. The purpose of these hearings is to provide an opportunity for the public to submit oral or written comments on the DPEIS. The DPEIS and information on these hearings can be found at http://www.nmfs.noaa.gov/pr/health/eis.htm.

Hearing Dates, Times, and Locations

The dates, times, and locations of the public hearings are as follows:

1. Monday, April 2, 2007 - San Francisco, CA 1-4 p.m.- Bay Conservation and Development Commission, 50 California Street, Suite 2600, San Francisco, CA 94111.

2. Tuesday, April 3, 2007 - Seattle, WA 2-5 p.m.- NMFS Northwest Regional Office, Building 9, 7600 Sand Point Way NE, Seattle, WA 98115.

3. Friday, April 6, 2007 - Silver Spring, MD 1-4 p.m.- Silver Spring Metro Center, Building 3, Room 1311-B, Silver Spring, MD 20910.

4. Monday, April 9, 2007 - Boston, MA 1-4 p.m.- New England Aquarium Conference Center, Central Wharf, Boston, MA 02110.

5. Tuesday, April 10, 2007 - St. Petersburg, FL 4-7 p.m.- NMFS Southeast Regional Office, Dolphin Conference Room, 263 13th Avenue, South, St. Petersburg, FL 33701.

Special Accommodations

These hearings are accessible to people with disabilities. Requests for sign language interpretation or other auxiliary aids should be directed to Sarah Howlett or Sarah Wilkin, 301-713-2322 (voice) or 301-427-2522 (fax), at least 5 working days prior to the hearing date.

Dated: March 27, 2007.
David Cottingham,
Chief, Marine Mammal and Sea Turtle Division, Office of Protected Resources, National Marine Fisheries Service.

[FR Doc. E7-5935 Filed 3-29-07; 8:45 am]

BILLING CODE 3510-22-S